DEPARTMENT OF HOUSING AND URBAN DEVELOPMENT

[Docket No. FR-4572-D-04]

Order of Succession

AGENCY: Office of the Assistant Secretary for Public and Indian Housing.

ACTION: Notice of Order of Succession.

SUMMARY: In this notice, the Assistant Secretary for Public and Indian Housing designates the Order of Succession for the office of Public and Indian Housing. This Order of Succession supersedes the Order of Succession for the Assistant Secretary for Public and Indian Housing, published at 60 FR 52004 (October 4, 1995) and correction published at 60 FR 53931 (October 18, 1995).

EFFECTIVE DATE: July 24, 2000.

FOR FURTHER INFORMATION CONTACT: John Opitz, Assistant General Counsel for Procurement and Administrative Law, Department of Housing and Urban Development, Room 10180, 451 7th Street, SW, Washington, DC 20410, (202) 708-0622. (This is not a toll-free number.) This number may be accessed via TTY by calling the Federal Information Relay Service at 1-800-877-8339 (toll-free).

SUPPLEMENTARY INFORMATION: The Assistant Secretary for Public and Indian Housing is issuing this Order of Succession of officials authorized to perform the functions and duties of the Office of the Assistant Secretary for Public and Indian Housing when, by reason of absence, disability, or vacancy in office, the Assistant Secretary is not available to exercise the powers or perform the duties of the office. This Order of Succession is subject to the provisions of the Vacancy Reform Act of 1998, 5 U.S.C. 3345-3349d. This publication supersedes the Order of Succession notice on October 4, 1995 at 60 FR 52004, and correction on October 18, 1995 at 60 FR 53931.

Accordingly, the Assistant Secretary for Public and Indian Housing designates the following Order of Succession:

Section A. Order of Succession

Subject to the provisions of the Vacancy Reform Act of 1998, during any period when, by reason of absence, disability, or vacancy in office, the Assistant Secretary for Public and Indian Housing is not available to exercise the powers or perform the duties of the Office of the Assistant Secretary for Public and Indian Housing, the following officials within the Office of Public and Indian Housing are hereby designated to exercise the powers and perform the duties of the Office:

(1) Deputy Assistant Secretary, Office of Distressed and Troubled Housing Recovery;

(2) General Deputy Assistant Secretary;

(3) Director, Office of Assisted Housing.

These officials shall perform the functions and duties of the Office in the order specified herein, and no official shall serve unless all the other officials, whose position titles precede his/hers in this order, are unable to act by reason of absence, disability, or vacancy in office.

Section B. Authority Superseded

This Order of Succession supersedes the Order of Succession for the Assistant Secretary for Public and Indian Housing, published at 60 FR 52004 (October 4, 1995), and correction published at 60 FR 53931 (October 18, 1995).

Authority: Section 7(d), Department of Housing and Urban Development Act, 42 U.S.C. Sec. 3535(d).

Dated: July 24, 2000.
Harold Lucas,
Assistant Secretary for Public and Indian Housing.

[FR Doc. 00-21391 Filed 8-21-00; 8:45 am]

BILLING CODE 4210-33-M